DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of a portion of the subdivisional lines and the subdivision of sections 26 and 27, T. 62 N., R. 2 E., Boise Meridian, Idaho, was accepted July 13, 2007.

The plat representing the dependent resurvey of portions of the east boundary and subdivisional lines, and the subdivision of sections 12 and 13, T. 14 S., R. 2 E., Boise Meridian, Idaho, was accepted July 18, 2007.

The plat constitutes the entire survey record of the dependent resurvey of a portion of the subdivisional lines, and the subdivision of section 9, T. 7 S., R. 36 E., Boise Meridian, Idaho, was accepted July 19, 2007.

The plat representing the corrective dependent resurvey of a portion of the south boundary and the dependent resurvey of portions of the south and east boundaries, subdivisional lines and 1870 meanders of the Snake River in sections 25 and 36, and the subdivision of sections 25 and 36, the survey of the 2003-2006 meanders of the right bank of the Snake River in sections 25 and 36, the survey of certain 2003-2006 partition lines in section 36, and the metes-and-bounds survey of lots 2 and 3 in section 25 and lot 11 in section 36, T. 1 S., R. 2 W., Boise Meridian, Idaho, was accepted July 19, 2007.

The plat representing the dependent resurvey of portions of the north boundary, subdivisional lines and the boundaries of Mineral Survey No. 3585, and the subdivision of sections 4 and 5, in T. 10 N., R. 3 W., Boise Meridian, Idaho, was accepted August 9, 2007.

The plat representing the dependent resurvey of portions of the subdivisional lines and boundaries of Mineral Survey Nos. 3350 and 3585, and the subdivision of sections 32 and 33, in T. 11 N., R. 3 W., Boise Meridian, Idaho, was accepted August 9, 2007.

The plat representing the dependent resurvey of a portion of the subdivisional lines, and the subdivision of section 23, in T. 5 S., R. 15 E., Boise Meridian, Idaho, was accepted August 17, 2007.

The plat representing the dependent resurvey of a portion of the subdivisional lines, and the subdivision of section 28, in T. 7 S., R.14 E., Boise Meridian, Idaho, was accepted August 30, 2007.

The plat representing the dependent resurvey of a portion of the First Standard Parallel South (north boundary), and a portion of the subdivisional lines, and the subdivision of section 4, T. 7 S., R. 23 E., Boise Meridian, Idaho, was accepted September 14, 2007.

This survey was executed at the request of the Bureau of Indian Affairs to meet certain administrative and management purposes. The lands surveyed are:

The plat representing the dependent resurvey of portions of the east boundary and subdivisional lines, and the subdivision of sections 13, 14, 22, and 23, in T. 34 N., R. 1 E., Boise Meridian, Idaho, was accepted August 22, 2007.

Dated: October 3, 2007.
Stanley G. French,
Chief Cadastral Surveyor for Idaho.

[FR Doc. E7-19889 Filed 10-9-07; 8:45 am]

BILLING CODE 4310-GG-P